DEPARTMENT OF HEALTH AND HUMAN SERVICES

Centers for Disease Control and Prevention

[60Day-25-1257; Docket No. CDC-2024-0101]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a continuing information collection, as required by the Paperwork Reduction Act of 1995. This notice invites comment on a proposed information collection project titled Assessment of Outcomes Associated with the Preventive Health and Health Services Block Grant (PHHS BG). This data collection allows CDC to describe the improvements achieved by grantees with funding and technical assistance provided by the PHHS BG program.

DATES: CDC must receive written comments on or before February 4, 2025.

ADDRESSES: You may submit comments, identified by Docket No. CDC-2024-0101 by any of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Assessment of Outcomes Associated with the Preventive Health and Health Services Block Grant (PHHS BG) (OMB Control No. 0920-1257, Exp. 6/30/2025)—Extension—National Center for STLT Public Health Infrastructure and Workforce (NCSTLTPHIW), Centers for Disease Control and Prevention (CDC).

Background and Brief Description

Since 1981, CDC has collected information from grantees under the PHHS Block Grant (PHHS BG) (OMB Control No. 0920-0106). This information collection allows CDC to document and monitor the progress of activities supported with Block Grant funding. In 2019, in response to recommendations from governing and advisory entities, CDC obtained OMB approval for collection of additional information focusing on outcomes of PHHS BG funding (OMB Control No. 0920-1257, Exp. 6/30/2025). CDC requests OMB approval to continue collecting the information needed to assess the outcomes of PHHS Block Grant funding. Findings will be used to: (1) describe the outcomes and achievements of grantees' public health efforts and identify how the use of PHHS Block Grant funds contributed to those results; and (2) help assess how the grant advances work of the public health system and provide evidence to support future budgetary requests. Data will be used to describe the grant as a whole—not individual grantee activities or outcomes.

The data collection instrument will be administered online using Qualtrics®, a web-based data collection instrument. Participants will respond to the instrument from their respective work locations. All Health Departments funded by the PHHS BG will be asked to respond to the data collection instrument, but participation is voluntary. Specific respondents include 61 PHHS BG coordinators, or their designees, across 61 health departments funded under the PHHS BG, acting in their official capacities. These respondents represent 50 states, the District of Columbia, two tribes, five U.S. territories, and three freely associated states.

CDC requests OMB approval for three years and an estimated 46 annual burden hours. There are no changes to the content of the information collection instrument or the estimated burden per response.

Estimated Annualized Burden Hours
Type of respondents | Form name | Number of respondents | Number of responses per respondent | Average burden per response (in hours) | Total burden (in hours)
PHHS Block Grant Coordinator or Designee | PHHS Block Grant Assessment | 61 | 1 | 45/60 | 46
Total |  |  |  |  | 46

Jeffrey M. Zirger,
Lead, Information Collection Review Office, Office of Public Health Ethics and Regulations, Office of Science, Centers for Disease Control and Prevention.

[FR Doc. 2024-28688 Filed 12-5-24; 8:45 am]

BILLING CODE 4163-18-P